DEPARTMENT OF HEALTH AND HUMAN SERVICES

Centers for Medicare & Medicaid Services

[Document Identifier: CMS-R-138, CMS-10147, CMS-10146 and CMS-10064]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Medicare Geographic Classification Review Board (MGCRB) Procedures and Criteria and Supporting Regulations in 42 CFR 412.256 & 412.230; Use: Section 1886(d)(10) of the Social Security Act established the MGCRB, an entity that has the authority to accept short-term hospital inpatient prospective payment system (IPPS) hospital applications requesting geographic reclassification for wage index or standardized payment amounts and to issue decisions on these requests. Since it is important to ensure the accuracy of the MGCRB decisions and remain apprised of potential payment impacts, the regulations note that CMS should also receive a copy of any hospital's application to the MGCRB. The information submitted by the hospitals is used by CMS staff to determine the validity of the hospitals' requests and the discretion used by the MGCRB in reviewing and making decisions regarding hospitals' requests for geographic reclassification. Since CMS wrote the guidelines for the MGCRB, it is essential that CMS staff monitor this process. Form Number: CMS-R-138 (OMB# 0938-0573); Frequency: Yearly; Affected Public: Business or other for-profits and not-for-profit institutions; Number of Respondents: 300; Total Annual Responses: 300; Total Annual Hours: 300.

2. Type of Information Collection Request: Extension of a currently approved collection; Title of Information Collection: Medicare Prescription Drug Coverage and Your Rights; Use: Section 42 CFR 423.562, requires each Part D plan sponsor to arrange with its network pharmacies to post or distribute the Medicare Prescription Drug Coverage and Your Rights notice to Part D plan enrollees at each pharmacy visit when the enrollee disagrees with the information provided by the pharmacist. The purpose of this notice is to provide enrollees with information about how to contact their Part D plans to request a coverage determination, including a request for an exception to the Part D plan's formulary. Form Number: CMS 10147 (OMB# 0938-0975); Frequency: Daily; Affected Public: Business or other for-profits; Number of Respondents: 40,000; Total Annual Responses: 30,000,000; Total Annual Hours: 500,000.

3. Type of Information Collection Request: Extension of a currently approved collection; Title of Information Collection: Notice of Denial of Medicare Prescription Drug Coverage; Use: Section 1860D-4(g)(1) of the Social Security Act, requires Part D plan sponsors that deny prescription drug coverage to provide a written notice of the denial to the enrollee. The written notice must include a statement, in clear language, of the reasons for the denial and a description of the appeals process. Form Number: CMS 10146 (OMB# 0938-0976); Frequency: Daily; Affected Public: Business or other for-profits; Number of Respondents: 758; Total Annual Responses: 290,344; Total Annual Hours: 145,172.

4. Type of Information Collection Request: Extension of a currently approved collection; Title of Information Collection: Minimum Data Set (MDS) for Swing Bed Hospitals and Supporting Regulations in 42 CFR 413.114(a)(2) and 413.343(a); Use: Exercising CMS' authority under section 1888(e)(7) of the Social Security Act to determine the most appropriate manner in which to implement the Skilled Nursing Facility Prospective Payment System (SNF PPS) for swing bed hospitals, CMS designed a 2-page MDS instrument for use by swing bed hospitals that includes all resident assessment data needed to reimburse swing bed hospitals for SNF-level care furnished to Medicare beneficiaries and to provide CMS with the basic demographic and utilization data for future planning and analysis. Form Number: CMS-10064 (OMB# 0938-0872); Frequency: Occasionally; Affected Public: Business or other for-profits, not-for-profit institutions and State, Local, or Tribal Governments; Number of Respondents: 481; Total Annual Responses: 50,505; Total Annual Hours: 328,283.

To obtain copies of the supporting statement and any related forms for the proposed paperwork collections referenced above, access CMS' Web Site address at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by July 22, 2008:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number ____, Room C4-26-05, 7500 Security Boulevard, Baltimore, Maryland 21244-1850.

Dated: May 15, 2008.
Michelle Shortt,
Director, Regulations Development Group, Office of Strategic Operations and Regulatory Affairs.

[FR Doc. E8-11386 Filed 5-22-08; 8:45 am]

BILLING CODE 4120-01-P